DEPARTMENT OF HEALTH AND HUMAN SERVICES

Agency for Toxic Substances and Disease Registry

[60Day-22-0060; Docket No. ATSDR-2022-0002]

Proposed Data Collection Submitted for Public Comment and Recommendations

AGENCY: Agency for Toxic Substances and Disease Registry (ATSDR), Department of Health and Human Services (HHS).

ACTION: Notice with comment period.

SUMMARY: The Agency for Toxic Substances and Disease Registry (ATSDR), as part of its continuing effort to reduce public burden and maximize the utility of government information, invites the general public and other federal agencies the opportunity to comment on a proposed and/or continuing information collection, as required by the Paperwork Reduction Act of 1995. This notice invites comment on a proposed information collection project titled Assessment of Environmental Health and Land Reuse Certification Training. This certification is a joint collaboration between ATSDR and the National Environmental Health Association (NEHA) that is designed to increase participant awareness and knowledge, skills and feedback on environmental health and land reuse.

DATES: ATSDR must receive written comments on or before May 17, 2022.

ADDRESSES: You may submit comments, identified by Docket No. ATSDR-2022-0002 by either of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. ATSDR will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7118; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Assessment of Environmental Health and Land Reuse Certification Training (OMB Control No. 0923-0060, Exp. 08/31/2022)—Revision—Agency for Toxic Substances and Disease Registry (ATSDR).

Background and Brief Description

The Agency for Toxic Substances and Disease Registry (ATSDR) is requesting a three-year Paperwork Reduction Act (PRA) clearance for a Revision of an information collection request (ICR) titled Environmental Health and Land Reuse Certification Training (OMB Control No. 0923-0060, Exp. Date 08/31/2022).

This certification is a joint collaboration between ATSDR and the National Environmental Health Association (NEHA) under a cooperative agreement. ATSDR and NEHA are co-producing the certification, which is geared toward NEHA members and ATSDR stakeholders who are environmental professionals, primarily local and state health agency employees, but also planners, environmental consultants, environmental non-profits, and students in environmental science, environmental/public health, and planning. The certification goals and course objectives are:

• To increase participant awareness and knowledge of environmental health and land reuse,

• To increase skills and capacity of participants to engage in environmental health and land reuse work, and

• To assess participant feedback and assessment of their own increased awareness, skills, and knowledge in environmental health and land reuse.

Due to the prevalence of potentially contaminated land reuse sites such as brownfields, the certificate program and training modules focus on increasing skills in land reuse and redevelopment through the integration of epidemiology, risk assessment, risk communication, and toxicology concepts and resources. The certification is offered in two modes. The certificate registration and training is hosted on NEHA's existing online Learning Management System, which hosts a variety of certificate and credentialing courses. In addition, ATSDR's National Land Reuse Health Program offers registration and maintains a classroom version of the training for learners who prefer virtual/classroom instruction or who may have limited broadband. NEHA will verify and issue continuing education (CE) credits for the EHLR Certificate for both online and classroom courses.

ATSDR plans to eliminate the currently approved one-time collection of feedback within 6-12 months after participation as of 08/31/2022. This follow-up survey was designed to evaluate the subsequent use of the certificate program training materials and resources to build capacity, and skills in environmental health and land reuse (EHLR). The follow-up survey will be discontinued because the training course content has been successfully established based on the feedback received to date.

Additional revisions are also needed. Initially, the training was to be administered under the CDC Training and Continuing Education Online (TCEO) system (see “Application for Training” [OMB Control No. 0920-0017, Exp. Date 04/30/2022]). ATSDR has decided to transition the administration of the online course to NEHA. This revision ICR will add the following information collections: Online and classroom registration, and pre- and post-tests and self-assessments for each of the five modules: Engaging with Your Community, Evaluating Environmental and Health Risks, Communicating Environmental and Health Risks to the Community, Redesigning with Health in Mind, and Measuring Success. In addition, course evaluations for each module will be added for online training only. ATSDR and NEHA will share this information to make improvements to both the online and the classroom modules.

In the past 16 months, ATSDR and NEHA have enrolled 1,135 online participants (n=71 per month). Extrapolating this average over 12 months yields an estimated annual enrollment of 852 online participants. Likewise, ATSDR has enrolled approximately 100 participants per year for classroom learning. For burden hour estimation, we make a simplifying assumption that all students have completed all modules, pre- and post-tests, self-assessments, and evaluations (for online participants). In reality, the certification is self-paced, and participants are in varying stages of completion toward certification.

ATSDR and NEHA are also planning a third mode of instruction for supplemental “EHLR Immersive Training” in three new modules: Community engagement, evaluation of environmental and health risks, and risk communication. This training will be offered as a face-to-face classroom course at environmental conferences to those who have completed the prerequisite EHLR online or classroom certification. Should COVID-19 affect live training, ATSDR may consider delivering the immersive training virtually.

Regarding the supplemental immersive training, ATSDR estimates that 125 conference attendees will meet the prerequisite certification requirement and will register for the training through a conference portal. They will be asked to complete a self-assessment for each module to be submitted toward additional CE credits and to receive the supplemental certification.

ATSDR plans an annual enrollment of 1,077 participants, which is an increase of 877 participants over the previously approved 200 participants. Participation in this information collection is voluntary and there is no cost to respondents other than their time. CDC requests OMB for an estimated 2,424 annual burden hours.

Estimated Annualized Burden Hours
Type of respondent | Form name | Number of respondents | Number of responses per respondent | Average burden per response (in hr) | Total burden (in hr)
Environmental Health Professionals and Affiliates | EHLR Registration (online) | 852 | 1 | 3/60 | 43
| Module 1 Pre-Test (online) | 852 | 1 | 10/60 | 142
| Module 1 Post-Test and Self-assessment (online) | 852 | 1 | 15/60 | 213
| Module 1 Evaluation (online) | 852 | 1 | 5/60 | 71
| Module 2 Pre-Test (online) | 852 | 1 | 10/60 | 142
| Module 2 Post-Test and Self-assessment (online) | 852 | 1 | 15/60 | 213
| Module 2 Evaluation (online) | 852 | 1 | 5/60 | 71
| Module 3 Pre-Test (online) | 852 | 1 | 10/60 | 142
| Module 3 Post-Test and Self-assessment (online) | 852 | 1 | 15/60 | 213
| Module 3 Evaluation (online) | 852 | 1 | 5/60 | 71
| Module 4 Pre-Test (online) | 852 | 1 | 10/60 | 142
| Module 4 Post-Test and Self-assessment (online) | 852 | 1 | 15/60 | 213
| Module 4 Evaluation (online) | 852 | 1 | 5/60 | 71
| Module 5 Pre-Test (online) | 852 | 1 | 10/60 | 142
| Module 5 Post-Test and Self-assessment (online) | 852 | 1 | 15/60 | 213
| Module 5 Evaluation (online) | 852 | 1 | 5/60 | 71
| EHLR Registration (classroom) | 100 | 1 | 3/60 | 5
| Module 1 Pre-Test (classroom) | 100 | 1 | 10/60 | 17
| Module 1 Post-Test and Self-assessment (classroom) | 100 | 1 | 15/60 | 25
| Module 2 Pre-Test (classroom) | 100 | 1 | 10/60 | 17
| Module 2 Post-Test and Self-assessment (classroom) | 100 | 1 | 15/60 | 25
| Module 3 Pre-Test (classroom) | 100 | 1 | 10/60 | 17
| Module 3 Post-Test and Self-assessment (classroom) | 100 | 1 | 15/60 | 25
| Module 4 Pre-Test (classroom) | 100 | 1 | 10/60 | 17
| Module 4 Post-Test and Self-assessment (classroom) | 100 | 1 | 15/60 | 25
| Module 5 Pre-Test (classroom) | 100 | 1 | 10/60 | 17
| Module 5 Post-Test and Self-assessment (classroom) | 100 | 1 | 15/60 | 25
| Immersive Training Registration (conference) | 125 | 1 | 3/60 | 6
| Module 1 Self-assessment (conference) | 125 | 1 | 15/60 | 10
| Module 2 Self-assessment (conference) | 125 | 1 | 15/60 | 10
| Module 3 Self-assessment (conference) | 125 | 1 | 15/60 | 10
Total |  |  |  |  | 2,424

Jeffrey M. Zirger,
Lead, Information Collection Review Office, Office of Scientific Integrity, Office of Science, Centers for Disease Control and Prevention.

[FR Doc. 2022-05759 Filed 3-17-22; 8:45 am]

BILLING CODE 4163-70-P